SECURITIES AND EXCHANGE COMMISSION

17 CFR Part 249

[Release No. 33-8183A; 34-47265A; 35-27642A; IC-25915A; IA-2103A, FR-68, File No. S7-49-02]

RIN 3235-AI73

Strengthening the Commission's Requirements Regarding Auditor Independence

AGENCY: Securities and Exchange Commission.

ACTION: Corrections to final regulations.

SUMMARY: We are making technical corrections to rules adopted in Release No. 33-8183 (January 28, 2003), which were published in the Federal Register on February 5, 2003 (68 FR 6005). The rules relate to requirements regarding auditor independence and enhanced disclosure of fees paid to auditors. This document corrects the numbering scheme for items within Forms 10-K and 10-KSB.

EFFECTIVE DATE: March 31, 2003.

FOR FURTHER INFORMATION CONTACT: Ray Be, Special Counsel, Office of Rulemaking, Division of Corporation Finance, at (202) 942-2910, U.S. Securities and Exchange Commission, 450 Fifth Street, NW, Washington, DC 20549-0312.

SUPPLEMENTARY INFORMATION:

I. Background

On January 28, 2003, the Commission adopted amendments to strengthen requirements regarding auditor independence and enhance disclosure regarding fees paid to auditors.¹ These rules were designed to implement provisions of the Sarbanes-Oxley Act of 2002.² The adopting release made erroneous references to items within Forms 10-K and 10-KSB. Accordingly, the amendments correct the numbering of items in these forms, but do not alter the disclosure requirements described in the original adopting release.

¹ See Release No. 33-8183 (Jan. 28, 2003) [68 FR 6006].

² Pub. L. 107-204, 116 Stat. 745 (2002).

II. Need for Correction

As published, the final regulations contain errors which are in need of clarification.

III. Correction of Publication

In FR Doc. 03-2364 published on February 5, 2003 (68 FR 6005) make the following corrections.

1. On page 6050, in the first column, instruction 10 is corrected to read as follows:

10. Amend Form 10-K (referenced in § 249.310) by:

a. Redesignating Item 15 of Part IV as Item 16 of Part IV, and

b. Adding new Item 15 to Part III.

The addition reads as follows:

* * * * *

2. On page 6050, in the first, second and third columns, “Item 16.” is corrected to read “Item 15.” in each place it appears.

Dated: March 26, 2003.
Jill M. Peterson,
Assistant Secretary.

[FR Doc. 03-7681 Filed 3-28-03; 8:45 am]

BILLING CODE 8010-01-P